DEPARTMENT OF HOUSING AND URBAN DEVELOPMENT

[Docket No. FR-5909-N-98]

30-Day Notice of Proposed Information Collection: Public Housing Capital Fund Program

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: February 2, 2017.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov

FOR FURTHER INFORMATION CONTACT: Colette Pollard, Reports Management Officer, QMAC, Department of Housing and Urban Development, 451 7th Street SW., Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

The Federal Register notice that solicited public comment on the information collection for a period of 60 days was published on September 14, 2016 at FR 81 63199.

A. Overview of Information Collection

Title of Information Collection: Public Housing Capital Fund Program.

OMB Approval Number: 2577-0157.

Type of Request: Extension of currently approved collection.

Form Number: HUD Form 50075.1—Annual Statement/Performance and Evaluation Report and HUD-50075.2—Capital Fund Program Five-Year Action Plan, HUD-5084, HUD-5087, HUD-51000, HUD-51001, HUD-51002, HUD-51003, HUD-51004, HUD-51915, HUD-51915-A, HUD-51971-I-II, HUD-52396, HUD-52427, HUD-52482, HUD-52483-A, HUD-52484, HUD-52485, HUD-52651-A, HUD-52829, HUD-52830, HUD-52833, HUD-52845, HUD-52846, HUD-52847, HUD-52849, HUD-53001, HUD-53015, HUD-5370, HUD-5370EZ, HUD-5370C, HUD-5372, HUD-5378, HUD-5460, HUD-52828, 50071, 5370-C1, 5370-C2.

Description of the need for the information and proposed use: Each year Congress appropriates funds to approximately 3,100 Public Housing Authorities (PHAs) for modernization, development, financing, and management improvements. The funds are allocated based on a complex formula. The forms in this collection are used to appropriately disburse and utilize the funds provided to PHAs. Additionally, these forms provide the information necessary to approve a financing transaction in addition to any Capital Fund Financing transactions. Respondents include the approximately 3,100 PHA receiving Capital Funds and any other PHAs wishing to pursue financing.

Respondents (i.e. affected public): Public Housing Authorities.

Form/Document | Number of respondents | Frequency | Total responses | Hours per response | Total hours | Cost per hour ($) | Total cost ($)
1. HUD-5084 | 3,100 | 1 | 3,100 | 1.5 | 4,650.00 | 30 | 139,500
2. HUD-5087 | 50 | 1 | 50 | 3 | 150 | 50 | 7,500
3. HUD-50071 | 10 | 1 | 10 | 0.5 | 5 | 50 | 250
4. HUD-50075.1 | 3,100 | 1 | 3,100 | 2.2 | 6,820 | 30 | 204,600
5. HUD-50075.2 | 3,100 | 1 | 3,100 | 1 | 3,100 | 30 | 93,000
6. HUD-51000 | 590 | 1 | 590 | 1 | 590 | 30 | 17,700
7. HUD-51001 | 2,550 | 12 | 30,600 | 3.5 | 107,100.00 | 30 | 3,213,000
8. HUD-51002 | 1,600 | 5 | 8,000 | 1 | 8,000.00 | 30 | 240,000
9. HUD-51003 | 500 | 2 | 1,000 | 1.5 | 1,500.00 | 30 | 45,000
10. HUD-51004 | 500 | 2 | 1,000 | 2.5 | 2,500.00 | 30 | 75,000
11. HUD-51915 HUD-51915-A | 2,630 | 1 | 2,630 | 3 | 7,890.00 | 30 | 236,700
12. HUD-51971-I, II | 80 | 1 | 80 | 1.5 | 120 | 30 | 3,600
13. HUD-52396 | 96 | 1 | 96 | 2 | 192 | 30 | 5,760
14. HUD-52427 | 88 | 1 | 88 | 0.5 | 44 | 30 | 1,320
15. HUD-52482 | 40 | 1 | 40 | 2 | 80 | 30 | 2,400
16. HUD-52483-A | 40 | 1 | 40 | 2 | 80 | 30 | 2,400
17. HUD-52484 | 532 | 4 | 2,128 | 10 | 21,280.00 | 30 | 638,400
18. HUD-52485 | 40 | 1 | 40 | 1 | 40 | 30 | 1,200
19. HUD-52651-A | 40 | 1 | 40 | 2.5 | 100 | 30 | 3,000
20. HUD-52829 | 25 | 1 | 25 | 40 | 1000 | 50 | 50,000
21. HUD-52830 | 25 | 1 | 25 | 16 | 400 | 50 | 20,000
22. HUD-52833 | 3,100 | 1 | 3,100 | 13 | 40,300.00 | 30 | 1,209,000
23. HUD-52836 | 10 | 1 | 10 | 0.5 | 5 | 50 | 250
24. HUD-52845 | 25 | 1 | 25 | 8 | 200 | 50 | 10,000
25. HUD-52846 | 25 | 1 | 25 | 16 | 400 | 50 | 20,000
26. HUD-52847 | 25 | 1 | 25 | 8 | 200 | 50 | 10,000
27. HUD-52849 | 25 | 1 | 25 | 1 | 25 | 50 | 1,250
28. HUD-53001 | 3,100 | 1 | 3,100 | 2.5 | 7,750.00 | 30 | 232,500
29. HUD-53015 | 40 | 1 | 40 | 3 | 120 | 30 | 3,600
30. HUD-5370, 5370EZ | 2,694 | 1 | 2,694 | 1 | 2,694.00 | 30 | 80,820
31. HUD-5370C | 2,694 | 1 | 2,694 | 1 | 2,694.00 | 30 | 80,820
32. HUD-5372 | 590 | 1 | 590 | 1 | 590 | 30 | 17,700
33. HUD-5378 | 158 | 24 | 3,792 | 0.25 | 948 | 30 | 28,440
34. HUD-5460 | 40 | 1 | 40 | 1 | 40 | 30 | 1,200
35. Public Housing Information Center Certification of Accuracy | 3,100 | 1 | 3,100 | 2 | 6,200.00 | 30 | 186,000
36. HUD-52828 Physical Needs Assessment form | 3,100 | 1 | 3,100 | 15.4 | 47,740.00 | 50 | 2,387,000
37. Broadband Feasibility determination | 3,100 | 1 | 3,100 | 10 | 31,000 | 50 | 1,550,000
Totals |  |  |  |  | 306,547.00 |  | 10,818,910

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Dated: December 21, 2016.
Colette Pollard,
Department Reports Management Officer, Office of the Chief Information Officer.

[FR Doc. 2016-31791 Filed 12-30-16; 8:45 am]

BILLING CODE 4210-67-P